DEPARTMENT OF THE INTERIOR

Bureau of Land Management

[AK-962-1410-00-P; F-14874-K]

Notice for Publication; Alaska Native Claims Selection

In accordance with Departmental regulation 43 CFR 2650.7(d), notice is hereby given that a decision to issue conveyance under the provisions of Sec. 14(a) of the Alaska Native Claims Settlement Act of December 18, 1971, 43 U.S.C. 1601, 1613(a), will be issued to NANA Regional Corporation, Inc., for the village of Kiana. The lands involved are in the vicinity of Kiana, Alaska.

Serial No. and land description | Acreage
Kateel River Meridian, Alaska
F-14874-K: T. 19 N., R. 6 W., Secs. 21, 22, 23, 27 & 28 | 3,200.00
F-14874-K: T. 20 N., R. 9 W., Secs. 4 to 8, inclusive | 3,030.66
F-14874-K: T. 17 N., R. 8 W., Secs. 5 & 6 | 1,162.15
Aggregating | 7,392.81

A notice of the decision will be published once a week, for four (4) consecutive weeks, in the Arctic Sounder Newspaper. Copies of the decision may be obtained by contacting the Alaska State Office of the Bureau of Land Management, 222 West Seventh Avenue, #13, Anchorage, Alaska 99513-7599 (907) 271-5960.

Any party claiming a property interest which is adversely affected by the decision, an agency of the Federal government or regional corporation, shall have until June 9, 2000 to file an appeal. However, parties receiving service by certified mail shall have 30 days from the date of receipt to file an appeal. Appeals must be filed in the Bureau of Land Management at the address identified above, where the requirements for filing an appeal may be obtained. Parties who do not file an appeal in accordance with the requirements of 43 CFR part 4, subpart E, shall be deemed to have waived their rights.

Nora A. Benson,
Land Law Examiner, ANCSA Team Branch of 962 Adjudication.

[FR Doc. 00-11650 Filed 5-9-00; 8:45 am]

BILLING CODE 4310-JA-P